DEPARTMENT OF ENERGY

Federal Energy Regulatory Commission

[Docket No. RP07-182-001]

Honeoye Storage Corporation; Notice of Proposed Substitute Change in FERC Gas Tariff

March 28, 2007.

Take notice that on March 26, 2007, Honeoye Storage Corporation (Honeoye) tendered for filing as part of its FERC Gas Tariff, First Revised Volume 1A, four (4) substitute revised tariff sheets to be effective April 1, 2007. The substitute revised tariff sheets are designated as:

Substitute First Revised Sheet No. 74

Substitute Original Sheet No. 99A

Substitute First Revised Sheet No. 100

Substitute Second Revised Sheet No. 106

Honeoye states that copies of the filing are being mailed to those parties who have filed motions to intervene in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Philis J. Posey,
Acting Secretary.

[FR Doc. E7-6104 Filed 4-2-07; 8:45 am]

BILLING CODE 6717-01-P